NATIONAL AERONAUTICS AND SPACE ADMINISTRATION

Office of Procurement; Public Availability of NASA FY 2015 Service Contract Inventory

AGENCY: National Aeronautics and Space Administration.

ACTION: Notice.

SUMMARY: In accordance with Section 743 of Division C of the Consolidated Appropriations Act of 2010 (Pub. L. 111-117), the National Aeronautics and Space Administration (NASA) is publishing this notice to advise the public of the availability of its Service Contract Inventory for Fiscal Year (FY) 2015. This inventory provides information on service contract actions over $25,000 that were awarded in FY 2015. The inventory has been developed in accordance with guidance issued by the Office of Management and Budget's Office of Federal Procurement Policy. NASA has posted documents associated with the Service Contract inventory, on the NASA Office of Procurement homepage at the following link: http://www.hq.nasa.gov/office/procurement/scinventory/index.html.

FOR FURTHER INFORMATION CONTACT: Jamiel L. Charlton at (202) 358-0302 or Jamiel.L.Charlton@nasa.gov.

Manuel Quinones,
Federal Register Liaison.

[FR Doc. 2016-12144 Filed 5-20-16; 8:45 am]

BILLING CODE 7510-13-P